DEPARTMENT OF THE TREASURY

Internal Revenue Service

26 CFR Part 54

[REG-107111-25]

RIN 1545-BQ55

DEPARTMENT OF LABOR

Employee Benefits Security Administration

29 CFR Part 2590

RIN 1210-AC30

DEPARTMENT OF HEALTH AND HUMAN SERVICES

45 CFR Part 147

[CMS-9882-P]

RIN 0938-AV64

Private Health Insurance; Transparency in Coverage; Extension of Comment Period

AGENCY: Internal Revenue Service, Department of the Treasury; Employee Benefits Security Administration, Department of Labor; Centers for Medicare & Medicaid Services, Department of Health and Human Services.

ACTION: Proposed rule; Extension of comment period.

SUMMARY: This document extends the comment period for the proposed rule that appeared in the Federal Register on December 23, 2025, titled “Transparency in Coverage”. The comment period for the proposed rule, which would end on February 23, 2026, is extended until March 2, 2026.

DATES: The comment period for the December 23, 2025 proposed rule (90 FR 60432) is extended to March 2, 2026.

ADDRESSES: You may submit comments as outlined in the December 23, 2025 proposed rule (90 FR 60432). Please choose only one of the methods listed.

FOR FURTHER INFORMATION CONTACT: Kendra May, Centers for Medicare and Medicaid Services, (301) 448-3996. Elizabeth Schumacher or Sharon Aguirre, Employee Benefits Security Administration, (202) 693-8335. Alexander Krupnick, Internal Revenue Service, Department of the Treasury, (202) 317-5500.

SUPPLEMENTARY INFORMATION:

Inspection of Public Comments: All comments received before the close of the comment period are available for viewing by the public, including any personally identifiable or confidential business information that is included in a comment. We post all comments received before the close of the comment period on the following website as soon as possible after they have been received: http://www.regulations.gov. Follow the search instructions on that website to view public comments. The Departments will not post on Regulations.gov public comments that make threats to individuals or institutions or suggest that the commenter will take actions to harm an individual. The Departments continue to encourage individuals not to submit duplicative comments. We will post acceptable comments from multiple unique commenters even if the content is identical or nearly identical to other comments.

In the December 23, 2025 Federal Register (90 FR 60432), we published a proposed rule titled “Transparency in Coverage” (hereinafter referred to as the TiC proposed rule). The rule proposed requirements that would amend the regulations under the Public Health Service Act, the Employee Retirement Income Security Act of 1974, and the Internal Revenue Code regarding price transparency disclosure requirements for non-grandfathered group health plans and health insurance issuers offering non-grandfathered group and individual health insurance coverage. Specifically, the rule proposed improvements in the standardization, accuracy, and accessibility of public pricing disclosures in line with the goals of the Executive Order 14221. With respect to the in-network rate and out-of-network allowed amount machine-readable files, the rule proposed achieving these goals by adding new contextual files and additional data elements like product type, network name, and enrollment counts; changing the reporting level for aggregation of data; removing in-network rates for unlikely provider-to-service mappings; increasing the reporting period and lowering the claims threshold for out-of-network historical data; and reducing the reporting cadence. The rule also proposed improvement in the findability of all of the publicly disclosed machine-readable files required under the Transparency in Coverage rules, including the prescription drug file, by requiring a text file and footer with website URLs and contact information for the files. The rule also included proposals that would require pricing information that is made available through an online consumer tool and paper (upon request), to also be made available by phone, and establish that the satisfaction of such requirement also satisfies the requirements of section 114 of the No Surprises Act (including for grandfathered group health plans and health insurance issuers offering grandfathered group and individual health insurance coverage that are not otherwise subject to the proposed rule).

In the TiC proposed rule, we solicited public comments on proposed changes and requested comments by February 23, 2026. Since publication of the proposed rules, the Departments have received questions related to the comment deadline and how to submit the comments to the Departments. To address the confusion from inconsistent communication about the comment deadline and to provide an opportunity for meaningful input by commenters the Departments are extending the comment period by an additional 7 days.

Kenneth J. Kies,
Acting Chief Counsel, Internal Revenue Service.
Daniel Aronowitz,
Assistant Secretary, Employee Benefits Security Administration.
Robert F. Kennedy, Jr.,
Secretary, Department of Health and Human Services.

[FR Doc. 2026-03798 Filed 2-23-26; 4:15 pm]

BILLING CODE 4831-GV-P; 4510-28-P; 4120-01-P